TENNESSEE VALLEY AUTHORITY

Agency Information Collection Activities: Information Collection Reinstatement; Comment Request

AGENCY: Tennessee Valley Authority.

ACTION: 60-Day notice of submission of information collection reinstatement approval and request for comments.

SUMMARY: The proposed information collection reinstatement described below will be submitted to the Office of Management and Budget (OMB) for review, as required by the Paperwork Reduction Act of 1995. The Tennessee Valley Authority is soliciting public comments on this proposed collection reinstatement.

DATES: Comments should be sent to the Public Information Collection Clearance Officer no later than July 5, 2022.

ADDRESSES: Requests for information, including copies of the information collection proposed and supporting documentation, should be directed to the Public Information Collection Clearance Officer: Jennifer A. Wilds, Specialist, Records Compliance, Tennessee Valley Authority, 400 W Summit Hill Dr., CLK-320, Knoxville, Tennessee 37902-1401; telephone (865) 632-6580 or by email at pra@tva.gov.

SUPPLEMENTARY INFORMATION: Type of Request: Reinstatement, with minor modification, of a previously approved information collection for which approval has expired.

Title of Information Collection: EnergyRight® Program.

OMB Approval Number: 3316-0019.

Frequency of Use: On occasion.

Type of Affected Public: Individuals or households and commercial businesses.

Small Businesses or Organizations Affected: Yes.

Federal Budget Functional Category Code: 455.

Estimated Number of Annual Responses: 33,500.

Estimated Total Annual Burden Hours: 8,650.

Estimated Average Burden Hours per Response: 0.3.

Need For and Use of Information: This information is used by distributors of TVA power to assist in identifying and financing energy improvements for their electrical energy customers.

Rebecca L. Coffey,
Agency Records Officer.

[FR Doc. 2022-09504 Filed 5-3-22; 8:45 am]

BILLING CODE 8120-08-P